DEPARTMENT OF ENERGY

Federal Energy Regulatory Commission

[Docket No. RP04-348-000]

Dauphin Island Gathering Partners; Notice of Refund Report

July 1, 2004.

Take notice that on June 25, 2004, Dauphin Island Gathering Partners (Dauphin Island) tendered for filing its report of net revenue received from cash outs. Dauphin Island has made this refund to its customers based upon its calculation method as set out in this report.

Dauphin Island states that copies of the filing are being served contemporaneously on all participants listed on the service list in this proceeding and on all persons who are required by the Commission's regulations to be served with the application initiating these proceedings.

Any person desiring to be heard or to protest said filing should file a motion to intervene or a protest with the Federal Energy Regulatory Commission, 888 First Street, NE., Washington, DC 20426, in accordance with § 385.214 or 385.211 of the Commission's Rules and Regulations. All such motions or protests must be filed in accordance on or before the date as indicated below. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Comment Date: July 8, 2004.

Magalie R. Salas,
Secretary.

FR Doc. E4-1502 Filed 7-8-04; 8:45 am]

BILLING CODE 6717-01-P